DEPARTMENT OF ENERGY

Federal Energy Regulatory Commission

18 CFR Parts 2 and 38

[Docket No. RM05-5-031]

Standards for Business Practices and Communication Protocols for Public Utilities

AGENCY: Federal Energy Regulatory Commission.

ACTION: Notice of proposed rulemaking.

SUMMARY: The Federal Energy Regulatory Commission proposes to amend its regulations to incorporate by reference, with certain exceptions, the latest version (Version 004) of the Standards for Business Practices and Communication Protocols for Public Utilities adopted by the Wholesale Electric Quadrant of the North American Energy Standards Board.

DATES: Comments are due July 5, 2024.

ADDRESSES: Comments, identified by docket number, may be filed in the following ways. Electronic filing through http://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, 12225 Wilkins Avenue, Rockville, MD 20852.

The Comment Procedures Section of this document contains more detailed filing procedures.

FOR FURTHER INFORMATION CONTACT:

John O. Sillin (technical issues), Office of Energy Policy and Innovation, Federal Energy Regulatory Commission, 888 First Street, NE, Washington, DC 20426, (202) 502-6548

Veronica Norman (legal issues), Office of the General Counsel, Federal Energy Regulatory Commission, 888 First Street NE, Washington, DC 20426, (202) 502-8751

SUPPLEMENTARY INFORMATION:

Table of Contents

| Paragraph No.
I. Overview | 1.
II. Background | 2.
III. Discussion | 5.
A. Modifications to Previous Version of Standards | 9.
1. Modifications in Response to Commission Order Nos. 676-I and 676-J | 9.
2. Modifications To Support Cybersecurity for the Wholesale Electric Industry | 19.
3. Modifications To Complement NERC Reliability Standards | 22.
4. Modifications to the WEQ OASIS Business Practice Standards | 24.
5. Modifications To Coordinate Interchange Standards | 34.
6. Modifications to Abbreviations, Acronyms, and Defined Terms | 36.
7. Voluntary Renewable Energy Certificates Contract | 37.
8. Minor Corrections | 38.
B. New Sets of Standards | 39.
1. WEQ-024 Cybersecurity | 39.
2. WEQ-025 Grid Services Supporting Wholesale Electric Interactions | 40.
C. Standards the Commission Proposes Not To Incorporate by Reference | 43.
1. WEQ-010 Contracts Related Business Practice Standards | 43.
2. WEQ-025 Grid Services Supporting Wholesale Electric Interactions | 44.
D. Proposed Implementation Procedures | 45.
IV. Notice of Use of Voluntary Consensus Standards | 48.
V. Incorporation by Reference | 49.
VI. Information Collection Statement | 75.
VII. Environmental Analysis | 80.
VIII. Regulatory Flexibility Act | 81.
IX. Comment Procedures | 85.
X. Document Availability | 88.

I. Overview

1. The Federal Energy Regulatory (Commission) proposes to amend its regulations at 18 CFR 38.1(b) to incorporate by reference, with certain enumerated exceptions,¹ the latest version (Version 004) of the Standards for Business Practices and Communication Protocols for Public Utilities adopted by the Wholesale Electric Quadrant (WEQ) of the North American Energy Standards Board (NAESB) (WEQ Version 004 Standards) applicable to the wholesale electric industry. NAESB is an American National Standards Institute-accredited, non-profit standards development organization formed for the purpose of developing voluntary standards and model business practices that promote more competitive and efficient natural gas and electric markets. On July 31, 2023, NAESB filed a notice that it had approved and published the WEQ Version 004 Standards to replace the currently incorporated version (Version 003.3) of those business practice standards (Informational Report).² The revisions made by NAESB in the WEQ Version 004 Standards are designed to aid public utilities with the consistent and uniform implementation of requirements promulgated by the Commission as part of the pro forma Open Access Transmission Tariff.

¹ In addition to the standards discussed below that are not proposed for incorporation by reference, the Commission is not proposing to incorporate by reference the following: (1) the WEQ-009 Standards of Conduct for Electric Transmission Providers, which NAESB has eliminated as they duplicate the Commission's regulations; and (2) the WEQ-014 WEQ/WGQ eTariff Related Business Practice Standards, which provide an implementation guide describing the various mechanisms, data tables, code values/reference tables, and technical specifications used in the submission of electronic tariff filings to the Commission, which the Commission has not incorporated as these submittals are governed by the Commission's eTariff regulations.

² See NAESB WEQ Business Practice Standards Version 004 Report, Docket No. RM05-5-31, (filed July 31, 2023).

II. Background

2. Since 2006, the Commission has adopted in its regulations NAESB's business practice standards and communication protocols for public utilities, promulgated in the Order No. 697 series of orders,³ wherein the Commission incorporated by reference the standards for public utilities developed by NAESB's WEQ. Upon incorporation by reference, this version of the standard will replace the currently incorporated version (Version 003.3) of those business practice standards.

³ This series of orders began with the Commission's issuance of Standards for Bus. Practices & Commc'n Protocols for Pub. Utils., Order No. 676, 71 FR 26,199 (May 4, 2006), 115 FERC ¶ 61,102 (2006).

3. On July 31, 2023, NAESB filed a report informing the Commission that it had approved and published the WEQ Version 004 Standards. NAESB states that the WEQ Version 004 Standards include newly created standards, as well as modifications to existing standards, developed through the NAESB standards development process. WEQ Version 004 Standards build upon WEQ Version 003.3 Standards and include standards developed in response to the directives from Order Nos. 676-I and 676-J,⁴ business practice standards developed to support cybersecurity for the wholesale electric industry, modifications to complement the NERC Reliability Standards, the new NAESB Base Contract for Sale and Purchase of Voluntary Renewable Energy Certificates (NAESB REC Contract), and standards to identify definitions for common grid services to support distributed energy resource interactions in response to a request submitted by the Department of Energy (DOE), Lawrence Berkeley National Laboratory (Berkeley Lab), and Pacific Northwest National Laboratory (PNNL). Additionally, WEQ Version 004 Standards include modifications applied to Open Access Same-Time Information Systems (OASIS) Business Practice Standards, the Coordinate Interchange Business Practice Standards, and the Abbreviations, Acronyms, and Defined Terms.

⁴ See Standards for Bus. Practices & Commc'n Protocols for Pub. Utils., Order No. 676-I, 85 FR 10571 (Feb. 25, 2020), 170 FERC ¶ 61,062 (2020); Standards for Bus. Practices & Commc'n Protocols for Pub. Utils., No. 676-J, 86 FR 29,491 (Jun. 2, 2021), 175 FERC ¶ 61,139 (2021).

4. The Informational Report includes an overview of all standard additions, modifications, and reservations applied to Version 004 of the WEQ Business Practice Standards and summarizes the deliberations that led to the changes. It also identifies changes to the existing standards that were considered but not adopted.⁵

⁵ Since the publication of WEQ Version 003.3, sixteen standards development efforts have resulted in recommendations from WEQ subcommittees for no action.

III. Discussion

5. In this notice of proposed rulemaking (NOPR), we propose to incorporate by reference into the Commission's regulations at 18 CFR 38.1(b) the WEQ Version 004 Standards as developed by NAESB, with certain exceptions.⁶ In the subsections that follow, we provide the summary required by the Office of Federal Register regulations. As an initial matter, we note that the WEQ Version 004 Standards include modifications, reservations, and additions to the following set of existing WEQ Standards, i.e., the Version 003.3 Business Practice Standards.

⁶ In the discussion below, we identify the NAESB WEQ Version 004 Standards that we propose not to incorporate by reference.

Standard No. | Business practice standards
WEQ-000 | Abbreviations, Acronyms, and Definition of Terms.
WEQ-001 | OASIS.
WEQ-002 | OASIS Standards and Communication Protocol (S&CP).
WEQ-003 | OASIS Data Dictionary.
WEQ-004 | Coordinate Interchange.
WEQ-005 | Area Control Error Equation Special Cases.
WEQ-006 | Manual Time Error Correction.
WEQ-008 | Transmission Loading Relief (TLR)—Eastern Interconnection.
WEQ-010 | Contracts Related Business Practice Standards.
WEQ-012 | Public Key Infrastructure (PKI).
WEQ-013 | OASIS Implementation Guide.
WEQ-015 | Measurement and Verification of Wholesale Electricity Demand Response.
WEQ-021 | Measurement and Verification of Energy Efficiency Products.
WEQ-022 | Electric Industry Registry.
WEQ-023 | Modeling.

6. Additionally, the WEQ Version 004 Business Practice Standards include two new sets of standards:

WEQ-024 | Cybersecurity.
WEQ-025 | Grid Services Supporting Wholesale Electric Interactions.

7. As the Commission found in Order No. 676, adoption of consensus standards is appropriate because the consensus process helps ensure the reasonableness of the standards by requiring that the standards draw support from a broad spectrum of all segments of the industry. Moreover, since the industry itself conducts business under these standards, the Commission's regulations should reflect those standards that have the widest possible support. In section 12(d) of the National Technology Transfer and Advancement Act of 1995, Congress affirmatively requires Federal Agencies to use technical standards developed by voluntary consensus standards organizations, such as NAESB, as a means of carrying out policy objectives or activities unless use of such standards would be inconsistent with applicable law or otherwise impractical.⁷

⁷ Public Law 104-113, 12(d), 110 Stat. 775 (1996), 15 U.S.C. 272 note (1997).

8. We discuss below some specific aspects of NAESB's informational report. The following paragraphs describe NAESB's proposed modifications, reservations, and additions to its existing standards, which collectively produce NAESB's proposed WEQ Version 004 Standards. The paragraphs also describe relevant background information and impetuses for the changes.

A. Modifications to Previous Version of Standards

1. Modifications in Response to Commission Order Nos. 676-I and 676-J

9. WEQ Version 004 contains modifications made in response to directives contained in Order Nos. 676-I and 676-J and related industry-submitted standards requests under three separate standards development efforts related to standards for redirection of transmission, time error correction, and contract path management. As part of these efforts, NAESB modified the WEQ-000 Abbreviations, Acronyms, and Definition of Terms, WEQ-001 OASIS Business Practice Standards, WEQ-003 OASIS Data Dictionary Business Practice Standards, WEQ-006 Manual Time Error Correction Business Practice Standards, WEQ-013 OASIS Implementation Guide Business Practice Standards, and WEQ-023 Modeling Business Practice Standards.

a. Standards for Redirection of Transmission Service

10. In response to Order No. 676-I,⁸ NAESB revised the WEQ-001, WEQ-003, and WEQ-013 standards to provide greater specificity regarding the transmission service reservation process that applies to redirection of transmission service (redirects) on a firm and non-firm basis, consistent with the Commission's Dynegy ⁹ policy addressing a customer's right to keep its contractual rights to point-to-point firm transmission service on the original path it has reserved while the customer's request for a redirect is pending.¹⁰ In Dynegy Power Marketing, Inc. v. Southwest Power Pool, Inc., the Commission held that a transmission customer receiving firm transmission service does not lose its rights to its original path until the redirect request satisfies all of the following criteria: (1) it is accepted by the transmission provider; (2) it is confirmed by the transmission customer; and (3) it passes the conditional reservation deadline under section 13.2 of the transmission provider's OATT.

⁸ Order No. 676-I, 170 FERC ¶ 61,062 at PP 35-39.

⁹ 99 FERC ¶ 61,054, at P 9 (2002) (Dynegy). This policy was retained and clarified in Entergy Services, Inc., 143 FERC ¶ 61,143, at PP 30-33 (2013) (Entergy).

¹⁰ Order No. 676-I, 170 FERC ¶ 61,062 at P 3.

11. In Order No. 676-I, the Commission incorporated by reference the NAESB standards, except for the preambles in WEQ-001-9 and WEQ 001-10. The Commission declined to incorporate by reference the two preambles because they appeared to permit transmission providers the option to implement their own entity-specific procedures, which would not have ensured consistency across the bulk power system.¹¹ The Commission also specified which firm parent reservations would be afforded the protection of the Dynegy policy and limited the Dynegy policy to redirects from unconditional firm service.¹²

¹¹ Order No. 676-I, 170 FERC ¶ 61,062 at PP 37-38.

¹² Id. P 36.

12. In response to Order No. 676-I, NAESB conducted a full review of both the WEQ-001-9 and WEQ-001-10 NAESB Standards to identify any shortcomings and modifications needed to comply with the Commission's conclusions and with Dynegy. The proposed standards provide additional details regarding the treatment of redirects from unconditional and conditional parent transmission service reservations, require redirects of non-firm transmission service to be from unconditional parent transmission service reservations, and require resales of transmission service to be from unconditional parent transmission service reservations. Further, the modified standards establish a mechanism to allow capacity to be returned from a redirect of firm transmission service to the parent transmission service reservation.

b. Time Error Correction

13. In Order No. 676-I, the Commission found that NAESB had not provided sufficient justification for retiring the Time Error Correction standard (WEQ-006), as it had proposed. The Commission instead left in place the incorporation by reference of the time error correction standard in the prior version of the standards (WEQ Version 003.1).¹³ The Commission requested that public utilities work through the NAESB business practices development process to revisit the rationale for removing the Time Error Correction standards to determine whether they should be retained or revised.

¹³ Order 676-I, 170 FERC ¶ 61,062 at P 46.

14. In response to the Commission in Order No. 676-I, NAESB revised WEQ-006 Manual Time Error Correction Business Practice Standards to address commercial requirements for entities calling for manual time error corrections in accordance with the NERC Time Monitoring Reference Document Version 5.¹⁴ Under the revised standards, Interconnection Time Monitors are required to monitor Time Error and make a reasonable effort to initiate or terminate corrective action orders according to the table in the standards when the time is slow or fast. The standards further require that, when any balancing authority has been separated from the Interconnection, after reconnection, it is required to adjust its Time Error devices to coincide with the Time Error of the Interconnection Time Monitor. These requirements do not apply to balancing authorities and Interconnection Time Monitors that use automatic Time Error Correction procedures.

¹⁴ North American Electric Reliability Corporation, Time Monitoring Reference Document, Version 5 (2019).

c. Contract Path Management

15. In Order No. 676-J, the Commission incorporated by reference all the WEQ-023 Modeling Business Practice Standards as included in WEQ Version 003.3 Standards, which had two new standards—WEQ-023-1.4 and -1.4.1—related to contract path management not previously included in the NERC MOD A Reliability Standards. Those standards limited the amount of firm transmission service granted on an Available Transfer Capability (ATC) Path and limited the interchange schedule (both firm and non-firm) between balancing authority areas to the contract path limit for that given path, respectively. Bonneville Power Administration (BPA) and the ISO/RTO Council objected to these standards, contending that the standards interfere with the way service providers schedule their systems and that the standards may result in less efficient use of ATC. Notwithstanding these objections, the Commission incorporated these standards by reference, finding that declining to adopt these standards could loosen the requirements for non-discriminatory calculation of ATC. However, the Commission urged NAESB to consider the issues raised as to whether revisions to the standards would be warranted.¹⁵

¹⁵ Order No. 676-J, 175 FERC ¶ 61,139 at P 30.

16. In response, NAESB modified the WEQ-023 Modeling Business Practice Standards to allow the contract path limit to be exceeded for a certain period of time prior to the start of flow.¹⁶ Specifically, the revisions to WEQ-023-1.4 and WEQ-023-1.4.1 were modified to better accommodate individual transmission provider business practices that may, for scheduling efficiency purposes, allow a contract path limit to be exceeded for a certain period prior to the implementation of the interchange schedule.¹⁷ The modification to WEQ-023-1.4.1 stipulates that when a transmission provider is determining whether to approve a request for firm transmission service, the transmission provider will consider the methodology used by other transmission providers and determine whether there is agreement between the methodologies.

¹⁶ Informational Report at 8.

¹⁷ Id.

17. The modifications to WEQ-023-1.4.1 provide clarity by establishing a cutoff time by which transmission providers must ensure that the net interchange schedule does not exceed the contract path limit. The revisions also include changes to ensure consistency with WEQ-023-1.4, as well as changes to clarify that entities using conditional firm transmission service may exceed the firm limit transfers in accordance with WEQ-001.21.

18. The revised standards proposed for incorporation by reference provide increased flexibility for transmission providers to maximize the use of the transmission system while still preventing the allocation of firm transmission service that exceeds transfer capability.

2. Modifications To Support Cybersecurity for the Wholesale Electric Industry

19. In addition to the addition of a new set of standards, WEQ-024 Cybersecurity Business Practice Standards (see section III.B.1 below), NAESB made modifications to WEQ-012 to support the issuance of server-side or transport layer security certificates by NAESB Authorized Certification Authorities (ACA).

20. The modifications to WEQ-012 standards incorporate best industry practices regarding the issuance of server-side or transport layer security server certificates by a certificate authority and allow a NAESB ACA to issue code-signing certificates that can be used to verify software and other executables in support of the NERC CIP-010 Security—Configuration Change Management and Vulnerability Assessments Reliability Standard. As part of these modifications, any digital certificate issued by a NAESB ACA must clearly and uniquely identify the organizational affiliation of the certificate holder. Identification is done through the inclusion of the company's Entity Code, an alphanumeric code that uniquely identifies an entity registered in the NAESB Electric Industry Registry (EIR), in the Organization Unit field of the certificate. Recent changes to industry practices facilitated through the Certification Authority Browser Forum have halted use of the Organization Unit field in server-side/transport layer security certificates issued by any certificate authority.

21. Additional modifications were made to the NAESB Accreditation Requirements for ACAs. The modifications will allow NAESB ACAs to issue code signing certificates that can be used by industry to authenticate software and other executable computer files from third parties. The modifications are supportive of Reliability Standard CIP-010 Cyber Security—Configuration Change Management and Vulnerability Assessments Reliability Standards require verification of the identity of a software source.

3. Modifications To Complement NERC Reliability Standards

22. WEQ Version 004 Standards include revisions to complement the NERC Reliability Standards, including modifications to be consistent with the NERC Glossary. The revisions modified WEQ-005-1.2.1 and WEQ-005-1.2.2 and created four new standards—WEQ-005-1.2.1.1, WEQ-005-1.2.1.2, WEQ-005-1.2.2.1, and WEQ-005-1.2.2.2. The changes were made to provide further clarity on the incorporation of jointly owned units into the ACE equation and to ensure consistency in the use of terminology between the WEQ Business Practice Standards and the NERC Dynamic Transfer Reference Document, which provides reliability guidance on the use of pseudo-ties and dynamic schedules in a balancing authority's ACE equations.¹⁸ Changes ensuring consistency in terminology were also made to WEQ-000.

¹⁸ North American Electric Reliability Corporation, Dynamic Transfer Reference Document, Version 4 (2019).

23. NAESB also modified the definition for System Operating Limit in WEQ-000 to ensure consistency with the proposed changes to the definition in the NERC Glossary. As the term appears in WEQ-001, WEQ-004, WEQ-008, and WEQ-023, the review of the modified definition was coordinated with four WEQ subcommittees.

4. Modifications to the WEQ OASIS Business Practice Standards

24. In addition to the OASIS modifications referenced previously, NAESB completed nine final actions modifying the OASIS suite of Business Practice Standards.

a. Eligibility and Treatment of Rollover Rights

25. NAESB developed modifications to the WEQ OASIS suite of Business Practice Standards to address the eligibility and treatment of rollover rights ¹⁹ as part of the standards supporting Network Integration Transmission Service (NITS).²⁰ The recommendation includes new and revised standards that define if and when rollover rights are assigned, update posting requirements and establish supporting template structures, and create dynamic notifications within OASIS for rollover rights. In developing the recommendation, one area of major discussion within the subcommittee was the impact of a termination of transmission service on rollover rights. The subcommittee reached consensus that indefinite termination of transmission service will result in an automatic termination of rollover rights associated with that service. The resulting standards revisions, including template structures, were applied to WEQ-001, WEQ-002, WEQ-003, and WEQ-013.

¹⁹ A Rollover Right is the option held by an existing firm transmission service customer to continue to take transmission service after a contract term expires. The contract “rolls over” or is, in effect, renewed. Promoting Wholesale Competition Through Open Access Non-Discriminatory Transmission Servs. by Pub. Utils.; Recovery of Stranded Costs by Pub. Utils. & Transmitting Utils., Order No. 888, 61 FR 21540 at 21604 (May 10, 1996), FERC Stats. & Regs. ¶ 31,036 (1996) (cross-referenced at 75 FERC ¶ 61,080), order on reh'g, Order No. 888-A, 62 FR 12274 (Mar. 14, 1997), FERC Stats. & Regs. ¶ 31,048 (cross-referenced at 78 FERC ¶ 61,220), order on reh'g, Order No. 888-B, 81 FERC ¶ 61,248 (1997), order on reh'g, Order No. 888-C, 82 FERC ¶ 61,046 (1998), aff'd in relevant part sub nom. Transmission Access Pol'y Study Grp. v. FERC, 225 F.3d 667 (D.C. Cir. 2000), aff'd sub nom. New York v. FERC, 535 U.S. 1 (2002).

²⁰ The standards addressing rollover rights for point-to-point transmission service were included in the WEQ Version 003.2 Standards publication and were incorporated by reference through Order No. 676-I.

b. Submission of Variables Associated With NITS

26. Several modifications were made to WEQ-002 and WEQ-003 to allow users the ability to submit specific lists of variables associated with NITS as part of the query/response functionality in OASIS templates. The revisions include changes to standards language in WEQ-002 and the addition of five new data elements to WEQ-003. No new NITS query variables were developed as part of these revisions.

c. Provide Consistency Between Standards Language

27. NAESB developed modifications to WEQ-001 to provide greater consistency between the standards language included in WEQ-001-9.2 and WEQ-001-9.4.3 and WEQ-001-B Appendix B—Redirect Business Practice Standards Examples. Specifically, the changes revise several of the illustrative examples included as part of the appendix to clarify that transmission service? requests submitted before the capacity is committed, or outside the time frame of the parent reservation, should be denied, consistent with WEQ-001-9.2 and WEQ-001-9.3. The changes also ensure consistency between the reservation processes that apply to redirects on firm and non-firm bases.

d. Improvements for OASIS Node Users

28. NAESB revised WEQ-002, WEQ-003, and WEQ-013 to establish a mechanism that enables OASIS node users to identify—in a single location—all service modifications made to an original transmission service request reservation. Specifically, the revisions include modifications to WEQ-002-4.3.4.3, the addition of nine new data elements in WEQ-003, and revisions to illustrative examples included in WEQ-013 Example 8.

e. Better Support Posting Requirements

29. NAESB developed modifications to WEQ-001 to better support posting requirements, included as part of 18 CFR 37.6, by adding specificity regarding the treatment of consolidations of transmission service requests. Consolidations of transmission service requests allow customers to combine capacity from like transmission service requests into a single request to promote efficient scheduling activities. When transmission service requests are consolidated, the consolidated request inherits attributes from the parent reservation, including the product code. The revisions to the standards ensure parity between consolidated and non-consolidated transmission service requests. The modifications are intended to eliminate the potential for a service increment to be created through consolidation that would otherwise be unavailable under a transmission provider's existing tariff processes, such as requests that have been consolidated into a daily transmission service request but inherited a monthly product code from one of the original parent reservations. The changes modify WEQ-001-24.2.4 and include two new standards, WEQ-001-24.2.4.1 and WEQ-001-24.2.4.2.

f. Provide Greater Clarity Regarding Priorities Between a Firm Transmission Service Request and a Previously Queued Non-Firm Request

30. NAESB modified WEQ-001 by modifying Table 25-3, Priorities for Competing Reservations or Requests, to better describe how a competition is conducted between a firm transmission service request and a previously queued non-firm request or reservation.

g. Response Timing Standards

31. The WEQ OASIS Subcommittee recommended certain modifications to extend response times for some functions to account for human performance.²¹ As a result, the proposed revisions include revisions modifying the timing tables included in WEQ-001-4.13, WEQ-001-25.1.8, and WEQ-001-105.1.5 to extend specific timing criteria for instances in which systems are not fully automated. These changes will be utilized by transmission providers and operators who do not have automated systems for responding to transmission service requests. The benefits include extending timing requirements that are deemed unreasonably strict for non-automated implementations. Subjects covered include point-to-point transmission service, right of first refusal response processing, and Network Integration Transmission Service requests.

²¹ Informational Report at 15.

h. Provide Greater Clarity for Transmission Customers

32. NAESB also modified the WEQ OASIS suite of Business Practice Standards to provide greater clarity for transmission customers on which redirect requests would qualify for the conveyance of rollover rights. As part of the revisions, transmission customers are required to explicitly indicate their intent to convey rollover rights to the redirect path by expressly opting-in or opting-out of the conveyance, eliminating the possibility that rollover rights could be unintentionally redirected. Prior to ratification of these standards, the default option was to grant the conveyance automatically. The standards revisions include modifications to WEQ-001-9.7.3.1 and WEQ-002-4.3.6.2, as well as the creation of three new standards—WEQ-001-9.7.3.3, WEQ-001-9.7.3.4, and WEQ-001-9.7.3.3—and consistency changes to WEQ-003 and WEQ-013.

i. Improve Efficiencies by Creating a Tracking and Audit Mechanism for Transmission Service Reservations

33. Finally, NAESB revised the WEQ OASIS suite of Business Practice Standards to improve efficiencies by creating a tracking and audit mechanism for transmission service reservations that allows transmission providers and customers to easily assess changes that occur as a result of the preemption and right-of-first-refusal process. The standards revisions modify WEQ-001-25.4.6.5.3, WEQ-002-4.3.6.2, WEQ-002-4.3.6.3, and WEQ-013-6.3, and add two new data elements to WEQ-003.

5. Modifications To Coordinate Interchange Standards

34. NAESB revised the WEQ-004 Coordinate Interchange Business Practice Standards to promote efficiency by streamlining the procedures entities should follow in the event of a system failure of the primary communication method used to manage interchange transactions—electronic tags (e-Tags). The revised WEQ-004, specifically WEQ-004-2.1 and WEQ-004-A, clarify the existing back-up procedures for e-Tagging and remove the requirements supporting outdated communication methods.

35. NAESB also modified the WEQ-000 and WEQ-004 standards. The revisions add a new appendix to WEQ-004 to provide guidance and best practices to entities in the Eastern Interconnection that automate the net scheduled interchange checkout process. The standards are intended to support and complement the NERC Reliability Standard INT-009-3 Implementation of Interchange, which requires balancing authorities to communicate net interchange information on a periodic basis with adjacent balancing authorities. The WEQ Coordinate Interchange Scheduling Subcommittee discussed the development of a data specification that would include all data required to automate the net scheduled interchange checkout process. The subcommittee's participants drafted standards to provide guidance for the implementation of such automation. In the recommendation containing the standards revisions, the subcommittee noted that the Western Interconnection's use of the Western Electricity Coordinating Council Interchange Tool would not be impacted by the automation efforts for the Eastern Interconnection.

6. Modifications to Abbreviations, Acronyms, and Defined Terms

36. In addition to the consistency changes described above regarding WEQ-000, the WEQ Version 004 Standards publication includes a new cross-reference column displaying the abbreviations, acronyms, and definition of terms with their corresponding NAESB WEQ Standards. Additional changes to ensure consistency in the use of abbreviations, acronyms, and defined terms were made to the WEQ OASIS Suite of Standards, WEQ-004 Coordinate Interchange Business Practice Standards, WEQ-008 TLR—Eastern Interconnection Business Practice Standards, WEQ-012 PKI Business Practice Standards, WEQ-022 EIR Business Practice Standards, and WEQ-023 Modeling Business Practice Standards.

7. Voluntary Renewable Energy Certificates Contract

37. The Informational Report also includes a newly developed NAESB REC Contract, an accompanying Frequently Asked Questions document, and associated technical implementation standards containing data dictionaries and code values. These documents and standards are included in WEQ-010 Contracts Business Practice Standards to support the use of the NAESB REC Contract with digital technologies, such as blockchain, in the retail and wholesale markets.

8. Minor Corrections

38. Since the publication of WEQ Version 003.3 standards, NAESB processed ten minor corrections applicable to the WEQ Business Practice Standards through its Minor Correction Process, and incorporated them into the WEQ Version 004 Standards.²²

²² As noted above, NAESB also used its minor correction process to compile the existing WEQ Cybersecurity Standards into a new book, WEQ-024 Cybersecurity Business Practice Standards.

B. New Sets of Standards

1. WEQ-024 Cybersecurity

39. In the WEQ Version 004 Standards, NAESB established a new set of Cybersecurity-related business practice standards in WEQ-024. This new set of standards reorganizes existing NAESB cybersecurity business practice standards into a new suite of NAESB standards. NAESB explained that it responded to an informal recommendation from DOE and Sandia National Laboratories (Sandia Labs) that arose from the 2019 Surety Assessment of cybersecurity elements contained in the NAESB Business Practice Standards. This consolidation should make the NAESB and Commission processes for revising NAESB cybersecurity business practice standards easier and faster to help match the fast pace of changes in cybersecurity practices. NAESB considered this consolidation a minor correction process; no new standards development efforts arose from this consolidation.

2. WEQ-025 Grid Services Supporting Wholesale Electric Interactions

40. In the WEQ Version 004 Standards, NAESB also established as a new suite of standards, WEQ-025 Grid Services Supporting Wholesale Electric Interactions Business Practice Standards, to promote greater consistency in wholesale market interactions and communication exchanges by flexible, “grid-edge” resources such as distributed energy resources and batteries. NAESB developed the standards in response to DOE, Berkeley Lab, and PNNL, which proposed that NAESB define a common list of grid services for electric market interactions in support of the DOE's Grid Modernization Laboratory Consortium efforts to modernize the nation's electric grid.

41. The WEQ-025 standards identify six categories of operations-based grid services used within the wholesale electric markets: (1) Energy Grid Service; (2) Reserve Grid Service; (3) Regulation Grid Service; (4) Frequency Response Grid Service; (5) Voltage Management Grid Service; and (6) Blackstart Grid Service. The standards also describe the types of attributes, such as location, timing, and performance determinations, that may be used by System Operators to define the unique requirements for services within their wholesale electricity markets. Due to regional variation and different markets, System Operators have varying names for operational objectives for the same or similar grid services. The new standards establish a technology-neutral framework that describes the operational objective of common types of market services and identifies the different physical capabilities to consume and/or inject electricity on the grid that a resource must be technically capable of providing.

42. According to the Informational Report, the framework introduced by these standards can enable regulators to easily compare market information regarding the use of transmission grid services across multiple jurisdictions. The changes are also designed to help market participants identify types of market services their resources may be able to provide and to create greater consistency in communications between resource owners participating in multiple markets and working with several System Operators to improve commercial transaction efficiencies.²³

²³ Informational Report at 12.

C. Standards the Commission Proposes Not To Incorporate by Reference

1. WEQ-010 Contracts Related Business Practice Standards

43. We propose to not to incorporate by reference WEQ-010, which includes the NAESB REC Contract, the accompanying Frequently Asked Questions document, and the associated technical implementation standards containing data dictionaries and code values contained in WEQ-010. This approach is consistent with our past practice ²⁴ of not incorporating by reference into our regulations any optional model contracts and related documents because we do not require the use of these contracts.²⁵

²⁴ See, e.g., Standards for Bus. Practices of Interstate Nat. Gas Pipelines, Notice of Proposed Rulemaking, 86 FR 12879 (Mar. 5, 2021), 174 FERC ¶ 61,103, at P 19 (2021) (Version 3.2 NOPR).

²⁵ Id.; Standards for Bus. Practices of Interstate Nat. Gas Pipelines, Order No. 587-V, 77 FR 43711 (Jul. 26, 2012), 140 FERC ¶ 61,036, at P 11 n.11 (2012).

2. WEQ-025 Grid Services Supporting Wholesale Electric Interactions

44. Although we support NAESB's standards development for grid services, we do not believe that it is necessary for the Commission to incorporate the WEQ-025 standards and the related changes to the WEQ-000 standards by reference. We note that the proposed NAESB standards use terms similar to but different from terms in the pro forma OATT that could introduce confusion if the Commission were to incorporate these standards by reference. Under the pro forma OATT, a transmission provider must provide a set of ancillary services, including reactive supply and voltage control (Schedule 2), regulation and frequency response (Schedule 3), and spinning and supplemental reserves (Schedules 5 & 6). The grid services set forth in the WEQ-025 set of standards address similar services; they include voltage, regulation, frequency response, and reserves. Also, the WEQ-025 standards are discretionary for system operators; thus, consistent with past practice,²⁶ we will not incorporate these standards by reference into our regulations.

²⁶ See, e.g., Version 3.2 NOPR 174 FERC ¶ 61,103 at P 19.

D. Proposed Implementation Procedures

45. The Commission proposes that transmission providers whose tariffs do not automatically incorporate by reference all new NAESB standards submit compliance filings on the proposed NAESB standards nine months after publication of a final rule in the Federal Register. Those compliance filings must reflect the requirements of the final rule, any new waiver requests to comply with a part of the final rule, and any request to preserve any existing waivers.

46. The Commission proposes separate implementation schedules for the NAESB cybersecurity business practice standards and for all the remaining WEQ Version 004 Standards. Transmission providers will be required to implement the NAESB cybersecurity business practice standards within 12 months from the date of publication in the Federal Register of any final rule.²⁷ Transmission providers will be required to implement all other WEQ Version 004 Standards adopted in a final rule within 18 months from the date of publication in the Federal Register of any final rule. The Commission proposes implementation of the NAESB cybersecurity business practice standards on an expedited basis consistent with the Commission's implementation schedule previously adopted for the WEQ Version 003.3 Standards.²⁸ In that order, the Commission noted DOE's request that cybersecurity standards in that version be enacted on an expedited basis and that the stand-alone nature of the standards permitted expedited implementation.

²⁷ A complete list of the specific cybersecurity business practice standards is included at Appendix I.

²⁸ Order No. 676-J, 175 FERC ¶ 61,139 at P 11.

47. This 18-month implementation timeline for the other WEQ Version 004 standards is consistent with Business Practice Standards WEQ 002-6, which states that transmission providers shall have 18 months from publication of a final rule in the Federal Register to implement all changes required to support the Business Practice Standards for OASIS version 004. Business Practice Standards WEQ 002-6 also state that: (a) OASIS Node changes required to support the version 004 OASIS template format must be made available to transmission customers no later than nine months after publication in the Federal Register and (b) OASIS Nodes shall maintain support for version 003.3 format queries and uploads for the full 18-month implementation period.

IV. Notice of Use of Voluntary Consensus Standards

48. Office of Management and Budget Circular A 119 (section 11) (February 10, 1998) provides that federal agencies should publish a request for comment in a NOPR when the agency is seeking to issue or revise a regulation proposing to adopt a voluntary consensus standard or a government-unique standard. In this NOPR, the Commission is proposing to incorporate by reference the WEQ Version 004 Standards, with the exception of WEQ-010 Contracts Related to Business Practice Standards, which includes the NAESB REC Contract, and WEQ-025 Grid Services Supporting Wholesale Electric Interactions. The WEQ Version 004 Standards were adopted by NAESB under NAESB's consensus procedures.²⁹

²⁹ Under this process, to be approved a standard must receive a super-majority vote of 67% of the members of the WEQ's Executive Committee with support from at least 40% from each of the five industry segments—transmission, generation, marketer/brokers, distribution/load serving entities, and end users. For final approval, 67% of the WEQ's general membership must ratify the standards.

V. Incorporation by Reference

49. The Office of the Federal Register requires agencies proposing to incorporate material by reference to discuss the ways that the materials it incorporates by reference are reasonably available to interested parties and how interested parties can obtain the materials.³⁰ The regulations also require agencies to summarize, in the preamble of the final rule, the materials that it incorporates by reference. The Commission proposes to incorporate by reference standards that consist of suites of NAESB WEQ business practice standards that address a variety of topics and are designed to aid public utilities with the consistent and uniform implementation of requirements promulgated by the Commission as part of the pro forma Open Access Transmission Tariff. We summarize these standards below.

³⁰ 1 CFR 51.5 (2022). See Incorporation by Reference, 79 FR 66267 (Nov. 7, 2014).

50. The WEQ-000 Abbreviations, Acronyms, and Definition of Terms Business Practice Standards provide a single location for all abbreviations, acronyms, and defined terms referenced in the WEQ Business Practice Standards. These standards provide common nomenclature for terms within the wholesale electric industry, thereby reducing confusion and opportunities for misinterpretation or misunderstandings among industry participants.

51. The OASIS suite of business practice standards (WEQ-001 Open Access Same-Time Information Systems (OASIS), WEQ-002 OASIS Standards and Communication Protocols, WEQ-003 OASIS Data Dictionary, and WEQ-013 OASIS Implementation Guide) support the FERC posting and reporting requirements that provide information about each transmission provider's performance of the requirements of its pro forma OATT. The OASIS system is used for scheduling transmission on the bulk power system, comprises the computer systems and associated communications facilities that public utilities are required to provide for the purpose of making available to all transmission users comparable interactions, and provides transmission service information and any back-end supporting systems or user procedures that collectively perform the transaction processing functions for handling requests on OASIS. These standards establish business practices and communication protocols that provide for consistent implementation across OASIS sites as well as consistent methods for posting to OASIS.

52. The WEQ-001 OASIS Business Practice Standards define the general and specific transaction processing requirements and related business processes required for OASIS. The standards detail requirements related to standard terminology for transmission and ancillary services, attribute values defining transmission service class and type, ancillary and other services definitions, OASIS registration procedures, procurement of ancillary and other services, path naming, next hour market service, identical transmission service requests, redirects, resales, transfers, OASIS postings, procedures for addressing ATC or AFC methodology questions, rollover rights, conditional curtailment option reservations, auditing usage of Capacity Benefit Margin, coordination of requests for service across multiple transmission systems, consolidation, preemption and right-of-first refusal process, and NITS requests.

53. The WEQ-002 OASIS Standards and Communication Protocols Business Practice Standards define the technical standards for OASIS. These standards detail network architecture requirements, information access requirements, OASIS and point-to-point interface requirements, implementation, and NITS interface requirements.

54. The WEQ-003 OASIS Data Dictionary Business Practice Standards define the data element specifications for OASIS.

55. The WEQ-004 Coordinate Interchange Business Practice Standards define the commercial processes necessary to facilitate interchange transactions via Request for Interchange (RFI) and specify the arrangements and data to be communicated by the entity responsible for authorizing the implementation of such transactions (the entities responsible for balancing load and generation).

56. The WEQ-005 Area Control Error (ACE) Equation Special Cases Business Practice Standards define commercial-based requirements regarding the obligations of a balancing authority to manage the difference between scheduled and actual electrical generation within its control area. Each balancing authority manages its ACE in accordance with the NERC Reliability Standards. These standards detail requirements for jointly owned utilities, supplemental regulation service, and load or generation transfer by telemetry.

57. The WEQ-006 Manual Time Error Correction Business Practice Standards define the commercial based procedures to be used for reducing time error to within acceptable limits of true time consistent with the guidance in Version 5 of NERC Time Monitoring Reference Document.

58. The WEQ-007 Inadvertent Interchange Payback Business Practice Standards define the methods in which inadvertent energy is paid back, mitigating the potential for financial gain through the misuse of paybacks for inadvertent interchange. Inadvertent interchange is interchange that occurs when a balancing authority cannot fully balance generation and load within its area. The standards allow for the repayment of any imbalances through bilateral in-kind payback, unilateral in-kind payback, or other methods as agreed to.

59. The WEQ-008 Transmission Loading Relief—Eastern Interconnection Business Practice Standards define the business practices for cutting transmission service during a Transmission Loading Relief (TLR) event. These standards detail requirements for the use of interconnection-wide TLR procedures, interchange transaction priorities for use with interconnection-wide TLR procedures, and the Eastern Interconnection procedure for physical curtailment of interchange transactions.

60. The WEQ-011 Gas/Electric Coordination Business Practice Standards define communication protocols intended to improve coordination between the gas and electric industries in daily operational communications between transportation service providers and gas-fired power plants. The standards include requirements for communicating anticipated power generation fuel for the upcoming day as well as any operating problems that might hinder gas-fired power plants from receiving contractual gas quantities.

61. The WEQ-012 Public Key Infrastructure (PKI) Business Practice Standards establish the cybersecurity framework for parties partaking in transactions via a transmission provider's OASIS or e-Tagging system. The NAESB PKI framework secures wholesale electric market electronic commercial communications via encryption of data and the electronic authentication of parties to a transaction using a digital certificate issued by a NAESB certified certificate authority. The standards define the requirements for parties utilizing the digital certificates issued by the NAESB certificate authorities.

62. The WEQ-013 OASIS Implementation Guide Business Practice Standards detail the implementation of the OASIS Business Practice Standards. The standards detail requirements related to point-to-point OASIS transaction processing, OASIS template implementation, preemption and right-of-first-refusal processing, NITS application and modification of service processing, and secondary network transmission service.

63. The WEQ-015 Measurement and Verification of Wholesale Electricity Demand Response Business Practice Standards define a common framework for transparency, consistency, and accountability applicable to the measurement and verification of wholesale electric market demand response practices. The standards describe performance evaluation methodology and criteria for the use of equipment, technology, and procedures to quantify the demand reduction value—the measurement of reduced electrical usage by a demand resource.

64. The WEQ-021 Measurement and Verification of Energy Efficiency Products Business Practice Standards define a common framework for transparency, consistency, and accountability applicable to the measurement and verification of wholesale electric market energy efficiency practices. The standards establish energy efficiency measurement and verification criteria and define requirements for energy efficiency resource providers for the measurement and verification of energy efficiency products and services offered in the wholesale electric markets.

65. The WEQ-022 EIR Business Practice Standards define the business requirements for entities utilizing the NAESB managed EIR, a wholesale electric industry tool that serves as the central repository for information needed in the scheduling of transmission through electronic transactions. The standards describe the roles within EIR, registration requirements, and cybersecurity.

66. The WEQ-023 Modeling Business Practice Standards provide technical details concerning the calculation of ATC for wholesale electric transmission services. The WEQ-023 standards are intended to address the aspects of certain of the NERC MOD A Reliability Standards relating to modeling, data, and analysis that are included in NERC's proposed retirement of its MOD A Reliability Standards.

67. The WEQ-024 Cybersecurity Business Practice Standards is a new suite to include and maintain all cybersecurity related requirements not included within the PKI business standards to be incorporated within this single suite to better facilitate the incorporation by reference process.³¹

³¹ Informational Report at 21.

68. The following standards are listed for informational purposes as non-mandatory guidance:

69. WEQ-016, Specifications for Common Electricity Product and Pricing Definition standards address the business objectives and context for capturing the attributes associated with electricity price and product signals as part of the Smart Grid implementation, which is called for by NIST standards.

70. WEQ-017, Specifications for Common Schedule Communication Mechanism standards contain a set of specifications relating to the use of date and time based data elements that are commonly used in transactions for Demand Response programs.

71. WEQ-018, Specifications for Wholesale Standard Demand Response Signals standards address the business objectives and context for standardizing signals for demand response and distributed energy resources as part of the Smart Grid implementation, which is called for by NIST standards.

72. WEQ-019, Customer Energy Usage Information Communication standards establish the Business Practice Standards for end-use energy usage information communication.

73. WEQ-020, Smart Grid Standards Data Element Table standards contain the list of data elements used in Business Practice Standards WEQ-016 and WEQ-018.

74. Commission regulations provide that copies of the standards incorporated by reference may be obtained through purchase or otherwise from the North American Energy Standards Board, 801 Travis Street, Suite 1675, Houston, TX 77002, Phone: (713) 356-0060, website: http://www.naesb.org/. The standards can also be reviewed without purchasing them.

75. The procedures used by NAESB make its standards reasonably available to those affected by Commission regulations, which generally is comprised of entities that have the means to acquire the information they need to effectively participate in Commission proceedings. Participants can join NAESB, for an annual membership cost of $8,000, which entitles them to full participation in NAESB and enables them to obtain these standards at no additional cost. Non-members may obtain any of the individual WEQ standards manuals for $250 per manual. Non-members also may obtain the complete set of Standards Manuals for $2,000.

76. NAESB provides ample opportunities for non-members, including agents, subsidiaries, and affiliates of NAESB members, to obtain access to the copyrighted standards through a no-cost limited copyright waiver. The limited copyright waivers are issued by the NAESB office and are granted to non-members on a case-by-case basis for the purpose of evaluating standards prior to purchase and/or reviewing the standards to prepare comments to a regulatory agency. Following the granting of a limited copyright waiver, the non-member is provided with read-only access to the standards through the end of the comment period or some other set period of time via Locklizard Safeguard Secure Viewer.³² NAESB will grant one limited copyright wavier per company for each set of standards or final actions. Any entity seeking a limited copyright waiver should contact the NAESB office.

³² For more information on Locklizard, please refer to the company's website: https://www.locklizard.com.

VI. Information Collection Statement

77. The following collection of information contained in this proposed rule is subject to review by the Office of Management and Budget (OMB) under section 3507(d) of the Paperwork Reduction Act of 1995, 44 U.S.C. 3507(d).³³ OMB's regulations require approval of certain information collection requirements imposed by agency rules.³⁴ Upon approval of a collection(s) of information, OMB will assign an OMB control number and an expiration date. Respondents subject to the filing requirements of this rule will not be penalized for failing to respond to these collections of information unless the collections of information display a valid OMB control number.

³³ 44 U.S.C. 3507(d).

³⁴ 5 CFR 1320.11.

78. The Commission solicits comments on the Commission's need for this information, whether the information will have practical utility, the accuracy of the provided burden estimates, ways to enhance the quality, utility, and clarity of the information to be collected, and any suggested methods for minimizing respondents' burden, including the use of automated information techniques.

79. The following burden estimate is based on the projected costs for the industry to implement the new and revised business practice standards adopted by NAESB and proposed to be incorporated by reference in this NOPR.³⁵ The NERC Compliance Registry, as of December 2023, identifies approximately 216 entities in the United States that are subject to this proposed rulemaking.

³⁵ Commission staff estimates that industry is similarly situated in terms of hourly cost (wages plus benefits). Based on the Commission average cost (wages plus benefits) for 2024, $100.00/hour is used.

Docket Nos. RM05-5-031
| Number of respondents | Annual number of responses per respondent | Total number of responses | Average burden (hrs.) & cost ($) per response | Total annual burden hrs. & total annual cost ($)
| (1) | (2) | (1) * (2) = (3) | (4) | (3) * (4) = (5)
FERC-516E | 216 | 1 | 216 | 6 hrs.; $600 | 1,296 hrs.; $129,600.
FERC-717 | 216 | 1 | 216 | 30 hrs.; $3,000 | 6,480 hrs.; $648,000.
Total |  |  |  | $3,600 | 7,776 hrs.; $777,600.

Costs To Comply With Paperwork Requirements

The estimated annual costs are as follows:

FERC-516E: 216 entities × 1 response/entity × (6 hours/response × $100.00/hour) = $129,600

FERC-717: 216 entities × 1 response/entity × (30 hours/response × $100.00/hour) = $648,000

Titles: FERC-516E, Electric Rate Schedule and Tariff Filings and FERC-717, Standards for Business Practices and Communication Protocols for Public Utilities.

Action: Proposed amendment to regulations pertaining to the existing collections of information FERC-516E and FERC-717.

OMB Control Nos: 1902-0290 (FERC-516E) and 1902-0173 (FERC-717).

Respondents: Business or other for-profit, and not-for-profit institutions.

Frequency of Responses: On occasion.

Necessity of the Information: This proposed rule, if implemented, will amend the Commission's regulations to incorporate by reference, with certain enumerated exceptions, the NAESB WEQ Version 004 Standards. The standards include those that were developed in accordance with recommendations of the DOE-sponsored cybersecurity surety assessment of the NAESB Business Practice Standards that was conducted in 2019. Additional standards were developed in response to the directives from Order Nos. 676-I and 676-J. NAESB undertook two standards development efforts to update the WEQ-004 Coordinate Interchange Standards in the WEQ Version 004 Standards publication. The first set of modifications clarify existing back-up procedures for e-Tagging, improve efficiencies by removing requirements that supported outdated methods of communication, and streamline the processes following system communication failures. Through the second effort, NAESB modified WEQ-004 to provide guidance to balancing authorities in the Eastern Interconnection seeking to automate their net scheduled interchange checkout process. The revisions made by NAESB in the WEQ Version 004 Standards are designed to aid public utilities with the consistent and uniform implementation of requirements promulgated by the Commission as part of the pro forma Open Access Transmission Tariff.

Internal review: The Commission has reviewed NAESB's proposal and has made a preliminary determination that the Version 004 standards the Commission proposes to adopt by reference are both necessary and useful. In addition, the Commission has determined through internal review that there is specific, objective support for the burden estimates associated with the information requirements.

80. Interested persons may obtain information on the reporting requirements by contacting the Federal Energy Regulatory Commission, Office of the Executive Director, 888 First Street NE, Washington, DC 20426 [Attention: Kayla Williams, email: DataClearance@ferc.gov, phone: (202) 502-8663].

81. Comments concerning the information collections proposed in this NOPR and the associated burden estimates should be sent to the Commission at this docket and be emailed to the Office of Management and Budget, Office of Information and Regulatory Affairs [Attention: Desk Officer for the Federal Energy Regulatory Commission]. For security reasons, comments should be sent by email to OMB at the following email address: oira_submission@omb.eop.gov. Please refer to the appropriate docket number of this notice of proposed rulemaking, Docket No. RM05-5-031, and OMB Control Nos. 1902-0290 (FERC-516E) and 1902-0173 (FERC-717), in your submission.

VII. Environmental Analysis

82. The Commission is required to prepare an Environmental Assessment or an Environmental Impact Statement for any action that may have a significant adverse effect on the human environment.³⁶ The actions proposed here fall within categorical exclusions in the Commission's regulations for rules that are clarifying, corrective, or procedural, for information gathering, analysis, and dissemination, and for sales, exchange, and transportation of electric power that requires no construction of facilities.³⁷ Therefore, an Environmental Assessment is unnecessary and has not been prepared for this NOPR.

³⁶ Reguls Implementing the Nat'l Envt'l Pol'y Act, Order No. 486, 52 FR 47897 (Dec. 17, 1987), FERC Stats. & Regs. ¶ 30,783 (1987) (cross-referenced at 41 FERC ¶ 61,284).

³⁷ See 18 CFR 380.4(a)(2)(ii), 380.4(a)(5), 380.4(a)(27) (2022).

VIII. Regulatory Flexibility Act

83. The Regulatory Flexibility Act of 1980 (RFA) ³⁸ generally requires a description and analysis of proposed rules that will have significant economic impact on a substantial number of small entities. The Commission is not required to make such an analysis if proposed regulations would not have such an effect.

³⁸ 5 U.S.C. 601-612.

84. The Small Business Administration (SBA) revised its size standards (effective January 22, 2014) for electric utilities from a standard based on megawatt hours to a standard based on the number of employees, including affiliates. Under SBA's standards, some transmission owners will fall under the following category and associated size threshold: electric bulk power transmission and control, at least 500 employees.³⁹ The Commission estimates that 24 of the 216 respondents, or 11% of the respondents affected by this NOPR, are small businesses under SBA standards.

³⁹ 13 CFR 121.201, Sector 22 (Utilities), NAICS code 221121 (Electric Bulk Power Transmission and Control).

85. The Commission estimates that the impact on these entities is consistent with the paperwork burden of $3,600 per entity used above.⁴⁰ The Commission does not consider $3,600 to be a significant economic impact. Based on the above, the Commission certifies that implementation of the proposed Business Practice Standards will not have a significant impact on a substantial number of small entities. Moreover, these requirements are designed to benefit all customers, including small businesses that must comply with them. Further, as noted above, adoption of consensus standards helps ensure the reasonableness of the standards by requiring that the standards draw support from a broad spectrum of industry participants representing all segments of the industry. Because of that representation and the fact that industry conducts business under these standards, the Commission's regulations should reflect those standards that have the widest possible support.

⁴⁰ 36 hours at $100.00/hour = $3,600.

86. Accordingly, pursuant to section 605(b) of the RFA,⁴¹ the regulations proposed herein should not have a significant economic impact on a substantial number of small entities.

⁴¹ 5 U.S.C. 605(b).

IX. Comment Procedures

87. The Commission invites interested persons to submit comments on the matters and issues proposed in this notice to be adopted, including any related matters or alternative proposals that commenters may wish to discuss. Comments are due July 5, 2024. Comments must refer to Docket No. RM05-5-031, and must include the commenter's name, the organization they represent, if applicable, and their address in their comments. All comments will be placed in the Commission's public files and may be viewed, printed, or downloaded remotely as described in the Document Availability section below. Commenters on this proposal are not required to serve copies of their comments on other commenters.

88. The Commission encourages comments to be filed electronically via the eFiling link on the Commission's website at https://www.ferc.gov. The Commission accepts most standard word processing formats. Documents created electronically using word processing software should be filed in native applications or print-to-PDF format and not in a scanned format. Commenters filing electronically do not need to make a paper filing.

89. Commenters that are not able to file comments electronically may file an original of their comment by USPS mail or by courier or other delivery services. For submission sent via USPS only, filings should be mailed to: Federal Energy Regulatory Commission, Office of the Secretary, 888 First Street NE, Washington, DC 20426. Submission of filings other than by USPS should be delivered to: Federal Energy Regulatory Commission, 12225 Wilkins Avenue, Rockville, MD 20852.

X. Document Availability

90. In addition to publishing the full text of this document in the Federal Register, the Commission provides all interested persons an opportunity to view and/or print the contents of this document via the internet through the Commission's Home Page (http://www.ferc.gov).

91. From the Commission's Home Page on the internet, this information is available on eLibrary. The full text of this document is available on eLibrary in PDF and Microsoft Word format for viewing, printing, and/or downloading. To access this document in eLibrary, type the docket number excluding the last three digits of this document in the docket number field.

92. User assistance is available for eLibrary and the Commission's website during normal business hours from the Commission's Online Support at (202) 502-6652 (toll free at 1-866-208-3676) or email at ferconlinesupport@ferc.gov, or the Public Reference Room at (202) 502-8371, TTY (202) 502-8659. Email the Public Reference Room at public.referenceroom@ferc.gov.

List of Subjects

18 CFR Part 2

Electric utilities, Natural gas, Pipelines, Reporting and recordkeeping requirements.

18 CFR Part 38

Conflicts of interest, Electric power plants, Electric utilities, Incorporation by reference, reporting and recordkeeping requirements.

By direction of the Commission.
(S E A L)
Issued: April 25, 2024.
Debbie-Anne A. Reese,
Acting Secretary.

In consideration of the foregoing, the Commission proposes to amends part 2 and part 38, chapter I, title 18, Code of Federal Regulations, as follows:

PART 2—GENERAL POLICY AND INTERPRETATIONS

1. The authority citation for Part 2 continues to read as follows:

Authority: 5 U.S.C. 601; 15 U.S.C. 717-717z, 3301-3432; 16 U.S.C. 792-828c, 2601-2645; 42 U.S.C. 4321-4370h, 7101-7352.

2. Revise and republish § 2.27 to read as follows:

§ 2.27 Availability of North American Energy Standards Board (NAESB) Smart Grid Standards as non-mandatory guidance.

The Commission informationally lists the following NAESB Business Practices Standards as non-mandatory guidance:

(a) WEQ-016, Specifications for Common Electricity Product and Pricing Definition, (WEQ Version 004, July 31, 2023);

(b) WEQ-017, Specifications for Common Schedule Communication Mechanism for Energy Transactions (WEQ Version 004, July 31, 2023;

(c) WEQ-018, Specifications for Wholesale Standard Demand Response Signals (WEQ Version 004, July 31, 2023;

(d) WEQ-019, Customer Energy Usage Information Communication (WEQ Version 004, July 31, 2023); and

(e) WEQ-020, Smart Grid Standards Data Element Table (WEQ Version 004, July 31, 2023).

(f) Copies of these standards may be obtained from the North American Energy Standards Board, 801 Travis Street, Suite 1675, Houston, TX 77002, Phone: (713) 356-0060; https://www.naesb.org/. Copies may also be obtained from the Federal Energy Regulatory Commission's website, https://www.ferc.gov.

PART 38—STANDARDS FOR PUBLIC UTILITY BUSINESS OPERATIONS AND COMMUNICATIONS

3. The authority citation for Part 38 continues to read as follows:

Authority: 16 U.S.C. 791-825r, 2601-2645; 31 U.S.C. 9701; 42 U.S.C. 7101-7352.

4. Amend § 38.1 by revising paragraphs (b)(1) through (17) to read as follows:

§ 38.1 Incorporation by reference of North American Energy Standards Board Wholesale Electric Quadrant standards.

* * * * *

(b) * * *

(1) WEQ-000, Abbreviations, Acronyms, and Definition of Terms (Version 004, July 31, 2023);

(2) WEQ-001, Open Access Same-Time Information Systems (OASIS) (WEQ Version 004, July 31, 2023);

(3) WEQ-002, Open Access Same-Time Information Systems (OASIS) Business Practice Standards and Communication Protocol (S&CP) (WEQ Version 004, July 31, 2023);

(4) WEQ-003, Open Access Same-Time Information Systems (OASIS) Data Dictionary (WEQ Version 004, July 31, 2023);

(5) WEQ-004, Coordinate Interchange (WEQ Version 004, July 31, 2023);

(6) WEQ-005, Area Control Error (ACE) Equation Special Cases (WEQ Version 004, July 31, 2023);

(7) WEQ-006, Manual Time Error Correction (WEQ Version 004, July 31, 2023);

(8) WEQ-007 Inadvertent Interchange Payback (WEQ Version 004, July 31, 2023);

(9) WEQ-008, Transmission Loading Relief (TLR)—Eastern Interconnection (WEQ Version 004, July 31, 2023);

(10) WEQ-011, Gas/Electric Coordination (WEQ Version 004, July 31, 2023);

(11) WEQ-012, Public Key Infrastructure (PKI) (WEQ Version 004, July 31, 2023);

(12) WEQ-013, Open Access Same-Time Information Systems (OASIS) Implementation Guide (WEQ Version 004, July 31, 2023);

(13) WEQ-015, Measurement and Verification of Wholesale Electricity Demand Response (WEQ Version 004, July 31, 2023);

(14) WEQ-021, Measurement and Verification of Energy Efficiency Products (WEQ Version 004, July 31, 2023);

(15) WEQ-022, Electric Industry Registry (EIR) (WEQ Version 004, July 31, 2023);

(16) WEQ-023, Modeling (WEQ Version 004, July 31, 2023);

(17) WEQ-024, Cybersecurity (Version 004, July 31, 2023).

[FR Doc. 2024-09438 Filed 5-3-24; 8:45 am]

BILLING CODE 6717-01-P